NUCLEAR REGULATORY COMMISSION

10 CFR Part 52

[NRC-2017-0029]

RIN 3150-AJ98

NuScale Small Modular Reactor Design Certification

Correction

In rule document 2023-00729, appearing on page 3187 through 3310 in the issue of Thursday, January 19, 2023, make the following correction:

On page 3303, in the table titled, “Documents Related To NuScale Design Certification Rule”, the fourth row is corrected to read as follows:

Annotated Comment Submissions on Proposed Rule: NuScale Small Modular Reactor Design Certification (NRC-2017-0029; RIN 3150-AJ98), June 2022 | *ML22045A213

[FR Doc. C1-2023-00729 Filed 2-2-23; 8:45 am]

BILLING CODE 0099-10-P